DEPARTMENT OF TRANSPORTATION

Federal Aviation Administration

14 CFR Part 97

[Docket No. 30229; Amdt. No. 2035]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: An effective date for each SIAP is specified in the amendatory provisions.

Incorporation by reference-approved by the Director of the Federal Register on December 31, 1980, and reapproved as of January 1, 1982.

ADDRESSES: Availability of matters incorporated by reference in the amendment is as follows:

For Examination—

1. FAA Rules Docket, FAA Headquarters Building, 800 Independence Avenue, SW., Washington, DC 20591;

2. The FAA Regional Office of the region in which the affected airport is located; or

3. The Flight Inspection Area Office which originated the SIAP.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd., Oklahoma City, OK 73169 (Mail Address: P.O. Box 25082, Oklahoma City, OK 73125), telephone: (405) 954-4164.

SUPPLEMENTARY INFORMATION: This amendment to part 97 of the Federal Aviation Regulations (14 CFR part 97) establishes, amends, suspends, or revokes Standard Instrument Approach Procedures (SIAPs). The complete regulatory description of each SIAP is contained in official FAA form documents which are incorporated by reference in this amendment under 5 U.S.C. 552(a), 1 CFR part 51, and § 97.20 of the Federal Aviation Regulations (FAR). The applicable FAA Forms are identified as FAA Forms 8260-3, 8260-4, and 8260-5. Materials incorporated by reference are available for examination or purchase as stated above.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 is effective upon publication of each separate SIAP as contained in the transmittal. Some SIAP amendments may have been previously issued by the FAA in a National Flight Data Center (NFDC) Notice to Airmen (NOTAM) as an emergency action of immediate flight safety relating directly to published aeronautical charts. The circumstances which created the need for some SIAP amendments may require making them effective in less than 30 days. For the remaining SIAPs, an effective date at least 30 days after publication is provided.

Further, the SIAPs contained in this amendment are based on the criteria contained in the U.S. Standard for Terminal Instrument Procedures (TERPS). In developing these SIAPs, the TERPS criteria were applied to the conditions existing or anticipated at the affected airports. Because of the close and immediate relationship between these SIAPs and safety in air commerce, I find that notice and public procedure before adopting these SIAPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation ass the anticipated impact is so minimal. For the same reason, the FAA certifies that this amendment will not have a significant economic impact on a substantial number of small entities under the criteria of the Regulatory Flexibility Act.

List of Subjects in 14 CFR Part 97

Air traffic control, Airports, Navigation (air).

Issued in Washington, DC on February 2, 2001.
L. Nicholas Lacey,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 is revised to read as follows:

Authority: 49 U.S.C. 106(g), 40103, 40113, 40120, 44701; and 14 CFR 11.49(b)(2).

2. Part 97 is amended to read as follows:

§§ 97.23, 97.25, 97.27, 97.29, 97.31, 97.33, 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS, MLS/DME, MLS/RNAV; § 97.31 RADAR SIAPs; § 97.33 RNAV SIAPs; and § 97.35 COPTER SIAPs, identified as follows:

* * * Effective March 22, 2001

Aniak, AK, Aniak, LOC/DME RWY 10, Amdt 3

Aniak, AK, Aniak, ILS/DME RWY 10, Amdt 7

Aniak, AK, Aniak, NDB-A, Amdt 1

Aniak, AK, Aniak, NDB/DME RWY 28, Amdt 3

Aniak, AK, Aniak, GPS RWY 10, Orig, CANCELLED

Aniak, AK, Aniak, RNAV (GPS) RWY 10, Orig

Aniak, AK, Aniak, RNAV (GPS) RWY 28, Orig

Barrow, AK, Wiley Post-Will Rogers Mem, VOR/DME RWY 24, Amdt 1

Barrow, AK, Wiley Post-Will Rogers Mem, LOC/DME BC RWY 24, Amdt 3

Barrow, AK, Wiley Post-Will Rogers Mem, GPS RWY 6, Orig, CANCELLED

Barrow, AK, Wiley Post-Will Rogers Mem, RNAV (GPS) RWY 6, Orig

Foley, AL, Foley Muni, GPS RWY 18, Orig CANCELLED

Foley, AL, Foley Muni, RNAV (GPS) RWY 18, Orig

Foley, AL, Foley Muni, GPS RWY 36, Orig, CANCELLED

Foley, AL, Foley Muni, RNAV (GPS) RWY 36, Orig

Sacramento, CA, Mather Field, ILS RWY 22L, Amdt 1

Salmon, ID, Lemhi Co, VOR/DME-B, Orig

Salmon, ID, Lemhi Co, RNAV-C, Orig

Ames, IA, Ames Muni, NDB OR GPS RWY 1, Amdt 1B

Ames, IA, Ames Muni, GPS RWY 19, Orig-A

Des Moines, IA, Des Moines Intl, NDB OR GPS RWY 31R, Amdt 19A

Spencer, IA, Spencer Muni, VOR OR GPS RWY 12, Amdt 2B

Spencer IA, Spencer Muni, NDB RWY 12, Amdt 1B

Alexandria, MN, Chandler Field, VOR RWY 22, Amdt 15

Alexandria, MN, Chandler Field, RNAV (GPS) RWY 31, Orig

Moorehead, MN, Moorhead Muni, VOR-A, Amdt 1

Moorhead, MN, Moorhead Muni, GPS RWY 30, Orig, CANCELLED

Moorhead, MN, Moorhead Muni, RNAV (GPS) RWY 30, Orig

Cape Girardeau, MO, Cape Girardeau Regional, LOC/DME BC RWY 28, Amdt 6A

Cape Girardeau, MO, Cape Girardeau Regional, NDB OR GPS RWY 10, Amdt 9A

Joplin, MO, Joplin Regional, LOC BC RWY 31, Amdt 20A

Imperial, NE, Imperial Muni, NDB RWY 31, Amdt 3

Imperial, NE, Imperial Muni, GPS RWY 31, Orig, CANCELLED

Imperial, NE, Imperial Muni, RNAV (GPS) RWY 31, Orig

Sidney, NY Sidney Muni, RNAV (GPS) RWY 7, Orig

Sidney, NY Sidney Muni, VOR/DME or GPS-B, Amdt 2B, CANCELLED

Watertown, NY, Watertown Intl, RNAV (GPS) RWY 7, Orig

Zanesville, OH, Zanesville Muni, NDB OR GPS-A, Amdt 1, CANCELLED

Perkasie, PA, Pennridge, GPS RWY 8, Orig, CANCELLED

Perkasie, PA, Pennridge, GPS RWY 26, Orig, CANCELLED

Perkasie, PA, Pennridge, RNAV (GPS) RWY 8, Orig

Perkasie, PA, Pennridge, RNAV (GPS) RWY 26, Orig

Dayton, TN, Mark Anton, GPS RWY 21, Orig, CANCELLED

Dayton, TN, Mark Anton, RNAV (GPS) RWY 21, Orig

Del Rio, TX, Del Rio Intl, LOC RWY 13, Orig

Del Rio, TX, Del Rio Intl, NDB RWY 13, Orig

Del Rio, TX, Del Rio Intl, LOC RWY 13, Amdt 4, CANCELLED

Del Rio, TX, Del Rio Intl, NDB RWY 13, Amdt 3, CANCELLED

Houston, TX, George Bush Intercontinental, ILS RWY 8, Amdt 19

Houston, TX, William P. Hobby, ILS RWY 30L, Amdt 5

Salt Lake City, UT, Salt Lake City Intl, RNAV (GPS) RWY 34L, Orig

Salt Lake City, UT, Salt Lake City Intl, RNAV (GPS) RWY 34R, Orig

Salt Lake City, UT, Salt Lake City Intl, RNAV (GPS) RWY 35, Orig

[FR Doc. 01-3655 Filed 2-12-01; 8:45 am]

BILLING CODE 4910-13-M